DEPARTMENT OF COMMERCE

Submission for OMB Review; Comment Request

AGENCY: U.S. Census Bureau.

The Department of Commerce will submit to the Office of Management and Budget (OMB) for clearance the following proposal for collection of information under the provisions of the Paperwork Reduction Act (44 U.S.C. chapter 35):

Title: Annual Wholesale Trade Survey.

Form Number(s): SA-42, SA-42A, SA-42(MSBO), SA-42A(MSBO), SA-42(AGBR), SA-42A(AGBR).

OMB Control Number: 0607-0195.

Type of Request: Extension of a currently approved collection.

Burden Hours: 3,811.

Number of Respondents: 7,329.

Average Hours per Response: 31 minutes.

Needs and Uses: The Annual Wholesale Trade Survey (AWTS) canvasses firms located in the United States that are primarily engaged in merchant wholesale trade, including manufacturers' sales branches and offices, as well and non-merchant wholesale trade such as agents, brokers, and electronic markets. The estimates produced from the AWTS provide current trends of economic activity by kind of business for the United States, and serve as a benchmark for the estimates compiled from the Monthly Wholesale Trade Survey [OMB No. 0607-0190]. The AWTS estimates address the Bureau of Economic Analysis (BEA) need for annual measures of sales, e-commerce, inventories, and operating expenses, which serve to improve BEA's calculation of the Gross Domestic Product (GDP). Additionally, the estimates provide valuable information for economic policy decisions by the government and are widely used by private businesses, trade organizations, professional associations, and other business research and analysis organizations.

Affected Public: Business or other for-profit.

Frequency: Annually.

Respondent's Obligation: Mandatory.

Legal Authority: Title 13, United States Code, Sections 182, 224, and 225.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: July 22, 2008.
Gwellnar Banks,
Management Analyst, Office of the Chief Information Officer.

[FR Doc. E8-17164 Filed 7-25-08; 8:45 am]

BILLING CODE 3510-07-P